DEPARTMENT OF TRANSPORTATION

Federal Aviation Administration

Notice of Intent To Rule on Request To Release Airport Property at the Malin Airport, Malin, Oregon

AGENCY: Federal Aviation Administration (FAA), DOT.

ACTION: Request for public comments.

SUMMARY: The FAA proposes to rule and invite public comment on the release of land at Malin Airport under the provisions of Section 125 of the Wendell H. Ford Aviation Investment Reform Act for the 21st Century (AIR 21), now 49 U.S.C. 47107(h)(2).

The FAA Modernization and Reform Act of 2012, HR 658, section 817, gave the Secretary of Transportation the authorization to grant an airport, city, or county release from any of the terms, conditions, reservations, or restrictions contained in a deed under which the United States conveyed to the airport, city, or county an interest in real property for airport purposes pursuant to section 16 of the Federal Airport Act (60 Stat. 179) or section 23 of the Airport and Airway Development Act of 1970 (84 Stat. 232).

On March 7, 2014, the FAA determined that the request to release property at the Malin Airport submitted by the City of Malin meets the procedural requirements of the Federal Aviation Administration.

The City of Malin is proposing the release from the terms, conditions, reservations, and restrictions on a 0.14 acre parcel of property by an instrument of disposal dated August 16, 1951. The property was conveyed to the City of Malin under Section 16 of the Surplus Property Act of 1944 to be used in developing, improving, operating, or maintaining and operating a public airport. The parcel is not within the fenced boundary of the airport and is not needed for aviation purposes and the proceeds from the sale of the property will be deposited into the airport account and will be used for airport improvements and maintenance.

DATES: Comments must be received on or before April 18, 2014.

ADDRESSES: Send comments on this document to Mr. Peter Doyle at the Federal Aviation Administration, 1601 Lind Avenue SW., Renton, Washington 98057-3356, Telephone 425-227-2652.

FOR FURTHER INFORMATION CONTACT: Documents are available for review by appointment by contacting Ms. Kay Neumeyer, P.O. Box 61, Malin, Oregon 97632, Telephone 541-723-2021

Issued in Renton, Washington on March 7, 2014.
Carol Suomi,
Seattle Airports District Manager.

[FR Doc. 2014-06042 Filed 3-18-14; 8:45 am]

BILLING CODE 4910-13-P